SURFACE TRANSPORTATION BOARD

[Docket No. FD 36591]

Louisville & Indiana Railroad Company—Acquisition and Operation Exemption—Southern Indiana Railway, Inc.

The Louisville & Indiana Railroad Company (LIRC), a Class III railroad, has filed a verified notice of exemption under 49 CFR 1150.41 to enter into an asset purchase agreement (Purchase Agreement) with Southern Indiana Railway, Inc. (SIND), for LIRC to acquire and operate a rail corridor from north of the intersection of “highway 403” at Speed (SIND Speed Property) southerly to a connection with a rail line of CSX Transportation, Inc., at Watson Junction, all in Clark County, Ind. The Purchase Agreement also covers yard tracks located on the real property of Lehigh Cement in Speed, north of SIND Speed Property (the above described assets subject to the Purchase Agreement are referred to collectively as the Line). According to LIRC, the Line is approximately 7.41 miles in length.¹ The verified notice states that LIRC will become the operator of the Line upon the exemption's effective date.

¹ LIRC states that this mileage number comes from Southern Indiana Railway—Acquisition, FD 12551 (ICC served Feb. 7, 1940). LIRC further states that its intention is to acquire SIND's rights to the entire rail corridor described in the 1940 decision, and that, to the extent that yard and ancillary tracks are subject to 49 U.S.C. 10906, LIRC's request for authority to acquire the Line is not intended to convert any such track into common carrier track subject to 49 U.S.C. 10901.

LIRC certifies that the Purchase Agreement does not contain any provision that may limit future interchange with a third-party connecting carrier. LIRC further certifies that its projected annual revenues as a result of this transaction will not result in LIRC's becoming a Class II or Class I rail carrier. Pursuant to 49 CFR 1150.42(e), if a carrier's projected annual revenues will exceed $5 million, it must, at least 60 days before the exemption becomes effective, post a notice of its intent to undertake the proposed transaction at the workplace of the employees on the affected lines, serve a copy of the notice on the national offices of the labor unions with employees on the affected lines, and certify to the Board that it has done so. However, LIRC's verified notice includes a request for waiver of the 60-day advance labor notice requirements. LIRC's waiver request will be addressed in a separate decision. The Board will establish the effective date of the exemption in its separate decision on the waiver request.

If the verified notice contains false or misleading information, the exemption is void ab initio. Petitions to revoke the exemption under 49 U.S.C. 10502(d) may be filed at any time. The filing of a petition to revoke will not automatically stay the effectiveness of the exemption. Petitions for stay must be filed no later than April 1, 2022.

All pleadings, referring to Docket No. FD 36591, should be filed with the Surface Transportation Board via e-filing on the Board's website. In addition, one copy of each pleading must be served on LIRC's representative, Rose-Michele Nardi, Baker & Miller PLLC, Suite 300, 2401 Pennsylvania Ave. NW, Washington, DC 20037.

According to LIRC, this action is categorically excluded from environmental review under 49 CFR 1105.6(c) and from historic reporting requirements under 49 CFR 1105.8(b).

Board decisions and notices are available at www.stb.gov.

By the Board, Scott M. Zimmerman, Acting Director, Office of Proceedings.

Decided: March 22, 2022.
Brendetta Jones,
Clearance Clerk.

[FR Doc. 2022-06338 Filed 3-24-22; 8:45 am]

BILLING CODE 4915-01-P